DEPARTMENT OF AGRICULTURE

Animal and Plant Health Inspection Service

[Docket No. APHIS-2014-0036]

Privacy Act Systems of Records; Wildlife Services Management Information System

AGENCY: Animal and Plant Health Inspection Service, USDA.

ACTION: Notice; revision of a system of records.

SUMMARY: The Animal and Plant Health Inspection Service proposes to revise an existing system of records in its inventory of record systems subject to the provisions of the Privacy Act of 1974, as amended. The Animal and Plant Health Inspection Service is revising Wildlife Services Management Information System, USDA-APHIS-9, to revise the routine uses, expand the categories of records in the system, and the location of the system. This notice is necessary to meet the requirements of the Privacy Act to publish in the Federal Register notice of the existence and character of record systems maintained by the agency.

DATES: Effective Date: This system will be adopted without further notice on November 17, 2015 unless modified to respond to comments received from the public and published in a subsequent notice.

Comment date: Comments must be received, in writing, on or before November 9, 2015.

ADDRESSES: You may submit comments by either of the following methods:

• Federal eRulemaking Portal: Go to http://www.regulations.gov/#!docketDetail;D=APHIS-2014-0036.

• Postal Mail/Commercial Delivery: Send your comment to Docket No. APHIS-2014-0036, Regulatory Analysis and Development, PPD, APHIS, Station 3A-03.8, 4700 River Road Unit 118, Riverdale, MD 20737-1238.

Supporting documents and any comments we receive on this docket may be viewed at http://www.regulations.gov/#!docketDetail;D=APHIS-2014-0036 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Mr. Robert P. Myers, Staff Officer, Wildlife Services, APHIS, 4700 River Road Unit 87, Riverdale, MD 20737; (301) 851-2499.

SUPPLEMENTARY INFORMATION: The Privacy Act of 1974, as amended (5 U.S.C. 552a), requires agencies to publish in the Federal Register notice of new or revised systems of records. A system of records is a group of any records under the control of any agency, from which information is retrieved by the name of an individual or by some identifying number, symbol, or other identifying particular assigned to an individual.

The Animal and Plant Health Inspection Service (APHIS) of the U.S. Department of Agriculture (USDA) is proposing to revise a system of records, entitled Wildlife Services (WS) Management Information System (MIS), which is used to maintain a record of activities conducted by the agency pursuant to its mission and responsibilities authorized by the Act of March 2, 1931, as amended (7 U.S.C. 426 and 426(b)), and the Act of December 22, 1987 (7 U.S.C. 426(c)).

Within this area of responsibility, WS provides wildlife damage management services to Federal, State, Tribal, and local governments; private sector entities within the United States; foreign partners; and cooperators. Individuals and cooperators may include farmers, ranchers, livestock dealers (including agents and brokers), airport employees, representatives of condominium associations, representatives of homeowners associations, golf course owners, pest control operators, contract personnel engaged in program activities, private homeowners, and other individuals. Wildlife damage management services include services to control wildlife diseases and invasive species and to protect livestock, aquaculture, agricultural resources, natural resources, and property.

The WS MIS contains personally identifiable information about persons who acquire wildlife damage management services from APHIS. The information includes a name, telephone number, mailing address, physical location address, and, when necessary, Global Positioning System (GPS) coordinates. (GPS aids in tracking wildlife damage management devices and to locate entry points where WS has approval to enter lands.) For cooperators for whom WS provides services on specific wildlife damage projects, an identifying number may be issued, which may be a Federal tax identification number, an employer identification number, and for individual citizens who are the primary contact in a funded cooperative agreement relationship, a social security number. In these instances, WS collects social security numbers or other identifying numbers, such as tax identification numbers or employer identification numbers, in compliance with the Debt Collection Improvement Act of 1996 (Pub. L. 104-134). The WS MIS may also include information relating to adverse human or animal incidents, indemnity, agreements, or insurance claims. In addition, the WS MIS includes information about WS employees, such as names, duty stations, user names, passwords, telephone numbers (home and work), email addresses (personal and work), and MIS-specific employee identification numbers.

Agency procedure requires that WS employees obtain permission to enter the property of cooperators. Information collected about cooperators will be used to document authority and license to enter premises to conduct wildlife damage management activities, pursuant to requests from cooperators for services to be conducted on their behalf. In addition, WS will use the information to help evaluate the effectiveness of program activities.

Also in support of the APHIS mission, WS conducts surveys by selecting cooperators to provide information about various facets of program activities related to the services provided. Information provided by the cooperator during the course of business enables WS to contact them and request voluntary participation in a survey, as well as use the information volunteered by the cooperator to make determinations about how and when work will be performed, what methods will be used, what information will be provided to the cooperator about the methodology, process, frequency, results, and time lines to be used in program activities, and to assist in developing safety measures and protocols.

The system of records notice for this system was previously published in the Federal Register on April 30, 2008 (73 FR 23404-23406, APHIS-2006-0018). To the extent that disclosure will not violate 7 U.S.C. 8791, and any amendments thereto, the system is amended to add new Routine Uses 7 through 10 and to revise Routine Uses 1 and 2. Routine Uses 3, 4, 5, 6, and 11 (formerly Routine Use 7) remain the same. In addition, this notice updates the system location and manager, categories of records, storage, retention and disposal, and record source categories.

Proposed New Routine Uses

Proposed New Routine Use 7

APHIS is adding new routine use 7 to establish that APHIS will disclose the records to agencies that APHIS has interagency agreements or memoranda of understanding with, such as the Bureau of Land Management and the U.S. Fish and Wildlife Service, for cases in which a cooperator has a grazing allotment and the agencies require information about wildlife damage management actions performed on the agencies' managed land.

Proposed New Routine Use 8

APHIS is adding new routine use 8 to establish that APHIS will disclose the records to consumer reporting agencies in accordance with section 31 U.S.C. 3711(e) for cases in which WS provides services under a funded cooperative agreement. APHIS is also updating the “Disclosure to Consumer Reporting Agencies” section of the notice to reflect this new routine use.

Proposed New Routine Use 9

APHIS is adding new routine use 9 to establish that APHIS will disclose the records to Federal, State, Tribal, and local regulatory agencies and their employees and contractors who collaborate with WS.

Proposed New Routine Use 10

APHIS is adding new routine use 10 to establish that APHIS will disclose the records to State- or Federal Government-level representatives of the U.S. Environmental Protection Agency to comply with the Federal Insecticide, Fungicide, and Rodenticide Act (FIFRA) mandate (FIFRA Sec. 8, 7 U.S.C. 136f, and FIFRA 7 U.S.C. 136i-l) as to application or deployment of regulated pesticides and regulated pesticide devices.

Revised Routine Uses

Routine Use 1 and Routine Use 2 are being revised by APHIS to add reference to Tribal governments because some WS projects may take place on Tribal lands.

A complete listing of routine uses of records maintained in the system is included in the document published with this notice.

System Location and Manager

APHIS is amending the system location to reflect that the electronic component of the system and its back up are housed on secure USDA-owned and operated systems in Riverdale, MD, and Ft. Collins, CO, and are not located at USDA's National Information Technology Center (NITC) in Kansas City, MO. However, an APHIS mandate scheduled for implementation in Fiscal Year 2015, may dictate that the system be relocated to NITC in Kansas City, MO, possibly with a mirror image stored at the NITC-managed, Enterprise Data Center, St. Louis, MO. APHIS is also updating the title of the system manager.

Categories of Records

In addition to the personally identifiable information previously listed in this notice, APHIS is also adding customer resource information, such as the numbers of animals WS may protect on a given property, because WS reports to customers the quantities and types of resources it protects over time and uses summarized date to report the resources it is protecting. This information will also include resources that were threatened, damaged, or destroyed by wildlife. In addition, we are adding information for WS collaborators and some WS contract pilots similar to the information maintained in the system for WS employees.

Storage

APHIS is amending this section to agree with the “System Location” section of the notice and to add that documents that are executed originals will be maintained in State or regional WS offices that are locked during non-business hours and require employee identification for admittance at all times.

Retention and Disposal

APHIS is amending this section to add that, in addition to Federal and State employee information remaining active in the system as long as the individual works for WS, information may remain active for as long as an employee's project-related work history is retained in the system. In addition, APHIS is adding that WS has developed record retention schedules for electronic information, but until they are approved by the National Archives and Records Administration (NARA), electronic records will be classified as permanent. Lastly, APHIS is adding that record retention schedules for WS paper-based records will be in accordance with NARA and existing APHIS policy.

Record Source Categories

APHIS is clarifying that WS employees enter data submitted by cooperators (customers) and that WS may add information to the system that consists of reference and lookup data about pesticide registration, wildlife laws, and permits obtained from Federal, State, Tribal, and local authorities.

Miscellaneous

The information collection requests associated with this system have been approved by the Office of Management and Budget under the Paperwork Reduction Act.

A report on the revised system of records, required by 5 U.S.C. 552a(r), as implemented by Office of Management and Budget Circular A-130, was sent to the Chairman, Committee on Homeland Security and Governmental Affairs, United States Senate; the Chairman, Committee on Oversight and Government Reform, House of Representatives; and the Administrator, Office of Information and Regulatory Affairs, Office of Management and Budget.

Done in Washington, DC, this 28th day of September 2015.
Kevin Shea,
Administrator, Animal and Plant Health Inspection Service.

USDA-APHIS-9

System name:

Wildlife Services Management Information System

Security classification:

None.

System location:

The files (paper-based component) for the Wildlife Services (WS) Management Information System (MIS) are maintained in the offices of Wildlife Services, Riverdale, MD; Wildlife Services Information Technology Support Center, Ft. Collins, CO; Federal and State area offices; and Federal regional offices. The electronic component of the system is housed on secure USDA-owned and operated systems in Riverdale, MD, and Ft. Collins, CO. A backup site for the data is also located at Riverdale, MD and Ft. Collins, CO. However, an APHIS mandate scheduled for implementation in fiscal year 2016, may dictate that the system be relocated to USDA's National Information Technology Center (NITC) in Kansas City, MO, possibly with a mirror image stored at the NITC-managed, Enterprise Data Center, St. Louis, MO.

Categories of individuals covered by the system:

Individuals who participate in depredation activities, including ranchers, farmers, livestock dealers (including agents and brokers) handling livestock covered by the program, airport employees, representatives of condominium associations, representatives of homeowner associations, private homeowners, golf course owners, employees of the Federal Government, employees of State and Tribal governments, pest control operators, contract personnel engaged in program activities, and other entities.

Categories of records in the system:

The records consist of agreements for services; description of property; names and addresses of those entering the agreement; contact information, including names and telephone numbers; property locations and descriptions, which may include Global Positioning System coordinates and customer resource information; resources that were threatened, damaged, or destroyed by wildlife; adverse human or animal incidents information; and insurance, appraisals, indemnity, and property damage information. In addition, for cooperators for whom WS provides services on specific wildlife damage projects, an identifying number, which may be a Federal tax identification number, an employer identification number, or for individual citizens who are the primary contact in a funded cooperative agreement relationship, a social security number. (Identifying numbers are recorded only on the paper-based component of the system.)

The system also includes information about WS employees, WS collaborators, and some WS contract pilots, such as names, duty stations, user names, passwords, telephone numbers (home and work), email addresses (personal and work), and MIS-specific employee identification numbers.

Purpose(s) of the system:

This system will be used to maintain a record of activities conducted by the agency pursuant to its mission and responsibilities for providing services necessary to manage wildlife damage to agriculture, human health and safety, natural resources, and human property.

Authority for maintenance of the system:

The Act of March 2, 1931, as amended (7 U.S.C. 426 and 426(b)), and the Act of December 22, 1987 (7 U.S.C. 426(c)).

Routine uses of records maintained in the system, including categories of users and the purposes of such uses:

In addition to those disclosures generally permitted under 5 U.S.C. 552a(b) of the Privacy Act, records maintained in the system may be disclosed outside USDA, to the extent that disclosure will not violate 7 U.S.C. 8791, and any amendments thereto, as follows:

(1) To cooperative Federal, State, Tribal, and local government officials, employees, or contractors, and other parties as necessary to carry out the program; and other parties engaged to assist in administering the program. Such contractors and other parties will be bound by the nondisclosure provisions of the Privacy Act. This routine use assists the agency in carrying out the program, and thus is compatible with the purpose for which the records are created and maintained;

(2) To the appropriate agency, whether Federal, State, local, Tribal, or foreign, charged with responsibility of investigating or prosecuting a violation of law or of enforcing, implementing, or complying with a statute, rule, regulation, or order issued pursuant thereto, of any record within this system when information available indicates a violation or potential violation of law, whether civil, criminal, or regulatory in nature, and either arising by general statute or particular program statute, or by rule, regulation, or court order issued pursuant thereto;

(3) To the Department of Justice when the agency, or any component thereof, or any employee of the agency in his or her official capacity, or any employee of the agency in his or her individual capacity where the Department of Justice has agreed to represent the employee, or the United States, in litigation, where the agency determines that litigation is likely to affect the agency or any of its components, is a party to litigation or has an interest in such litigation, and the use of such records by the Department of Justice is deemed by the agency to be relevant and necessary to the litigation; provided, however, that in each case, the agency determines that disclosure of the records to the Department of Justice is a use of the information contained in the records that is compatible with the purpose for which the records were collected;

(4) For use in a proceeding before a court or adjudicative body before which the agency is authorized to appear, when the agency, or any component thereof, or any employee of the agency in his or her official capacity, or any employee of the agency in his or her individual capacity where the agency has agreed to represent the employee, or the United States, where the agency determines that litigation is likely to affect the agency or any of its components, is a party to litigation or has an interest in such litigation, and the agency determines that use of such records is relevant and necessary to the litigation; provided, however, that in each case, the agency determines that disclosure of the records to the court is a use of the information contained in the records that is compatible with the purpose for which the records were collected;

(5) To appropriate agencies, entities, and persons when the agency suspects or has confirmed that the security or confidentiality of information in the system of records has been compromised; the agency has determined that as a result of the suspected or confirmed compromise, there is a risk of harm to economic or property interests, a risk of identity theft or fraud, or a risk of harm to the security of integrity of this system or other systems or programs (whether maintained by the agency or another agency or entity) that rely upon the compromised information; and the disclosure made to such agencies, entities, and persons is reasonably necessary to assist in connection with the agency's efforts to respond to the suspected or confirmed compromise and prevent, minimize, or remedy such harm;

(6) To USDA contractors, partner agency employee or contractors, or private industry employed to identify patterns, trends, or anomalies indicative of fraud, waste, or abuse;

(7) To land management agencies, such as the Bureau of Land Management and the U.S. Fish and Wildlife Service relating to wildlife damage on grazing allotments;

(8) To consumer reporting agencies in accordance with section 31 U.S.C. 3711(e);

(9) To Federal, State, Tribal, and local regulatory agencies and their employees and contractors who collaborate with Wildlife Services in implementation of, or agencies that regulate, wildlife management projects or programs, or who have an interest in, or regulate, animal or public health, or national security;

(10) To State- or Federal Government-level representatives of the U.S. Environmental Protection Agency, in compliance with the Federal Insecticide, Fungicide, and Rodenticide Act (FIFRA) mandate (FIFRA Sec. 8, 7 U.S.C. 136f, and FIFRA 7 U.S.C. 136i-l), of the location on a cooperator's property where certain regulated pesticide devices are deployed or regulated pesticides are applied; and

(11) To the National Archives and Records Administration (NARA) or to the General Services Administration for records management inspections conducted under 44 U.S.C. 2904 and 2906.

Disclosure to consumer reporting agencies:

In accordance with section 31 U.S.C. 3711(e).

Policies and practices for storing, retrieving, accessing, retaining, and disposing of records in the system:

Policies for storing, retrieving, accessing, retaining, and disposing of records in the system are outlined in the Wildlife Services Information and Data Management Handbook and the APHIS Records Management Handbook and are summarized below.

Storage:

The WS MIS records will be maintained in USDA-owned server storage. Documents that are executed originals will be maintained in State or regional Wildlife Services offices that are locked during non-business hours and require employee identification for admittance at all times.

Retrievability:

Under this system, data may be retrieved and organized by agreement number, name of cooperator, or agreement holder. Retrieval permissions for employees who have access to the system are determined by the data usage role of the employee and are compliant with the APHIS “least privilege” rule.

Safeguards:

Control measures designed to prevent misuse of accessible data include unique user identification, a password protection protocol, and limitation of user roles through compartmentalization of allowed access. Agency implemented cybersecurity measures and firewalls are built into the application user interface, and monitoring of use of the MIS for profiles of misuse is possible. The hard copy components of the system, and computer files, tapes, and disks are kept in a safeguarded environment with access only by authorized personnel.

Retention and disposal:

Information identifying cooperators is kept in the system as long as a cooperator retains an active agreement with WS. Federal and State employee information is kept active in the system as long as the individual works for WS or as long as their project-related work history is retained in the system. WS has developed record retention schedules for electronic information, but until they are approved by NARA, electronic records will be classified as permanent. Record retention schedules for WS paper-based records are in accordance with NARA and existing APHIS policy.

System manager(s) and address:

Director, Applications Development, Information Technology Support Center, Wildlife Services, USDA/APHIS, NRRC, 2150 Centre Avenue, Building A, Suite 143, Fort Collins, CO 80526.

Notification procedure:

Any individual may request general information regarding this system of records or information as to whether the system contains records pertaining to him/her from the system manager at the address above. All inquiries pertaining to this system should be in writing, must name the system of records as set forth in the system notice, and must contain the individual's name, telephone number, address, and email address.

Record access procedures:

Any individual may obtain information from a record in the system that pertains to him or her. Requests for hard copies of records should be in writing, and the request must contain the requesting individual's name, address, name of the system of records, timeframe for the records in question, any other pertinent information to help identify the file, and a copy of his/her photo identification containing a current address for verification of identification. All inquiries should be addressed to the Freedom of Information and Privacy Act Staff, Legislative and Public Affairs, APHIS, 4700 River Road Unit 50, Riverdale, MD 20737-1232.

Contesting record procedures:

Any individual may contest information contained within a record in the system that pertains to him/her by submitting a written request to the system manager at the address above. Include the reason for contesting the record and the proposed amendment to the information with supporting documentation to show how the record is inaccurate.

Record source categories:

WS users generate data about the work performed by WS. Additional data is collected is voluntarily submitted by cooperators (customers) and entered into the system by WS employees. In addition, reference and lookup data about pesticide registration, wildlife laws, and permits are obtained from Federal, State, Tribal, and local authorities.

Exemptions claimed for the system:

None.

[FR Doc. 2015-25640 Filed 10-7-15; 8:45 am]

BILLING CODE 3410-34-P